NUCLEAR REGULATORY COMMISSION

[Docket No. 030-29462]

Notice of Availability of Environmental Assessment and Finding of No Significant Impact Related to the Approval for the Department of the Navy To Issue an Amendment to a Materials Permit for the Unrestricted Release of Building 5 at the Naval Air Warfare Center Weapons Division in China Lake, CA, Under Byproduct Materials License No. 45-23645-01NA

AGENCY: Nuclear Regulatory Commission.

ACTION: Issuance of Environmental Assessment and Finding of No Significant Impact for License Amendment.

FOR FURTHER INFORMATION CONTACT: Orysia Masnyk Bailey, Health Physicist, Materials Security & Industrial Branch, Division of Nuclear Materials Safety, Region I, 475 Allendale Road, King of Prussia, Pennsylvania 19406; telephone (864) 427-1032; fax number (610) 680-3497; or by e-mail: omm@nrc.gov.

SUPPLEMENTARY INFORMATION:

I. Introduction

The U.S. Nuclear Regulatory Commission (NRC) is considering allowing the Department of the Navy (Navy) to issue an amendment to a materials permit which is governed by the Navy's Master Materials License No. 45-23645-01NA pursuant to 10 CFR Part 30. The NRC approval would authorize the Navy to release, for unrestricted use, Building 5 (the Facility), located at the Naval Air Warfare Center Weapons Division in China Lake, California. The Navy requested this action in a letter dated February 8, 2008. The NRC has prepared an Environmental Assessment (EA) in support of this proposed action in accordance with the requirements of Title 10, Code of Federal Regulations (CFR), Part 51 (10 CFR Part 51). Based on the EA, the NRC has concluded that a Finding of No Significant Impact (FONSI) is appropriate with respect to the proposed action. The proposed action will be taken following the publication of this FONSI and EA in the Federal Register.

Background

The materials permit for the Facility (NRMP No. 04-68307-WINP) was issued on August 7, 2003, and authorized the use of carbon-14 for preparation of radio-labeled derivatives of an energetic material for analysis by offsite laboratories. Additionally, bottles of thorium-232 oxide powder and uranium dioxide (limited to amounts of 15 grams and 100 grams, respectively) were also stored at the Facility.

II. Environmental Assessment

Identification of Proposed Action

The proposed action would approve the Navy's February 8, 2008, request to release Building 5 at the Naval Air Warfare Center Weapons Division (NAWC) in China Lake, California (the Facility) for unrestricted use and the termination of its materials permit.

NAWC China Lake is a 1.1 million acre (1735 square mile) military reservation in the upper Mojave Desert of south central California. It is divided into two major ranges, the North and South Ranges. The Facility is located on the North Range. The carbon-14 work area was confined to a corner of Room 1613 within the Facility, with dimensions of approximately 10 feet by 13 feet. The work area contained a table, a bench counter containing a sink, an adjoining bench counter, a fume hood, and a table. Room 1613 is approximately 18 feet by 30 feet by 15 feet high in the carbon-14 work area and 20 feet high on the opposite side of the room.

In November 2005, the Navy ceased licensed activities at the Facility and initiated decontamination of Room 1613. Scoping surveys were performed in March 2004, April 2005, and September 2006. Based on the Navy's historical knowledge of the site and the results of the scoping surveys, the Navy determined that only routine decontamination activities, in accordance with their NRC-approved, operating radiation safety procedures, were required. The Navy was not required to submit a decommissioning plan to the NRC because worker cleanup activities and procedures were consistent with those approved for routine operations. The Navy conducted Facility surveys in September 2007, and provided information to the NRC to demonstrate that it meets the criteria in Subpart E of 10 CFR Part 20 for unrestricted release and for permit termination.

Need for the Proposed Action

The Navy is requesting approval of this permitting action because it has ceased conducting licensed activities at the Facility and seeks its unrestricted use and the termination of its materials permit.

Environmental Impacts of the Proposed Action

The historical review of licensed activities conducted in the Facility shows that such activities involved use of the following radionuclides with half-lives greater than 120 days: Carbon-14 and thorium-232. Prior to performing the final status survey, the Navy conducted decontamination activities, as necessary, in the areas of the Facility affected by these radionuclides.

The Navy conducted a final status survey in September 2007. This survey covered building and work area surfaces in the Facility. The final status survey report was submitted by letter dated February 8, 2008. For the carbon-14, the Navy elected to demonstrate compliance with the radiological criteria for unrestricted release as specified in 10 CFR 20.1402 by using the screening approach described in NUREG-1757, “Consolidated NMSS Decommissioning Guidance,” Volume 2. The Navy used the radionuclide-specific derived concentration guideline levels (DCGLs), developed there by the NRC, which comply with the dose criterion in 10 CFR 20.1402. These DCGLs define the maximum amount of residual radioactivity on building surfaces, equipment, and materials, and in soils, that will satisfy the NRC requirements in Subpart E of 10 CFR Part 20 for unrestricted release. The Navy's final status survey results were below these DCGLs and are in compliance with the As Low As Reasonably Achievable (ALARA) requirement of 10 CFR 20.1402. The NRC thus finds that the Navy's final status survey results are acceptable.

For the thorium-232, the Navy elected to demonstrate compliance with the radiological criteria for unrestricted release as defined in 10 CFR 20.1402 by developing a DCGL for thorium of 450 disintegrations per minute gross alpha activity per 100 square-centimeters area (α dpm/100cm²) for the Facility. The past history of the Facility suggests that use of a surface criterion is appropriate. The Navy developed their final DCGL by utilizing the DANDD code and its default industrial scenario to calculate the “default” DCGL for thorium. The Navy then utilized the suggested resuspension factor in NUREG-1720, “Re-evaluation of the Indoor Resuspension Factor for the Screening Analysis of the Building Occupancy Scenario for NRC's License Termination Rule—Draft Report” to calculate a site-specific DCGL. The Navy developed a ratio of the default resuspension value in the code and the re-evaluated value from draft NUREG-1720 and multiplied the “default” DCGL for thorium by this ratio to result in a site-specific 450 α dpm/100 cm² DCGL for thorium. The Navy thus determined the maximum amount of residual radioactivity on building surfaces, equipment, and materials that will satisfy the NRC requirement in Subpart E of 10 CFR Part 20 for unrestricted release. The NRC reviewed the Navy's methodology and proposed DCGL, and concluded that the proposed DCGL is acceptable for use as release criteria for the Facility. The Navy's final status survey results were below this DCGL, and are thus acceptable.

Based on its review, the staff has determined that the affected environment and any environmental impacts associated with the proposed action are bounded by the impacts evaluated by the “Generic Environmental Impact Statement in Support of Rulemaking on Radiological Criteria for License Termination of NRC-Licensed Nuclear Facilities” (NUREG-1496) Volumes 1-3 (ML042310492, ML042320379, and ML042330385). The staff finds there were no significant environmental impacts from the use of radioactive material in the Facility. The NRC staff reviewed the docket file records and the final status survey report to identify any non-radiological hazards that may have impacted the environment surrounding the Facility. No such hazards or impacts to the environment were identified. The NRC has identified no other radiological or non-radiological activities in the area that could result in cumulative environmental impacts.

The NRC staff finds that the proposed release of the Facility for unrestricted use and the termination of the permit is in compliance with 10 CFR 20.1402. Based on its review, the staff considered the impact of the residual radioactivity in the Facility and concluded that the proposed action will not have a significant effect on the quality of the human environment.

Environmental Impacts of the Alternatives to the Proposed Action

Due to the largely administrative nature of the proposed action, its environmental impacts are small. Therefore, the only alternative the staff considered is the no-action alternative, under which the staff would leave things as they are by simply denying the amendment request. This no-action alternative is not feasible because it conflicts with 10 CFR 30.36(d), requiring that decommissioning of byproduct material facilities be completed and approved by the NRC after licensed activities cease. The NRC's analysis of the Navy's final status survey data confirmed that the Facility meets the requirements of 10 CFR 20.1402 for unrestricted release and for permit termination. Additionally, denying the amendment request would result in no change in current environmental impacts. The environmental impacts of the proposed action and the no-action alternative are therefore similar, and the no-action alternative is accordingly not further considered.

Conclusion

The NRC staff has concluded that the proposed action is consistent with the NRC's unrestricted release criteria specified in 10 CFR 20.1402. Because the proposed action will not significantly impact the quality of the human environment, the NRC staff concludes that the proposed action is the preferred alternative.

Agencies and Persons Consulted

NRC provided a draft of this Environmental Assessment to the California Radiological Health Branch for review on April 21, 2008. On April 21, 2008, the California Radiological Health Branch responded by e-mail. The State agreed with the conclusions of the EA, and otherwise had no comments.

The NRC staff has determined that the proposed action is of a procedural nature, and will not affect listed species or critical habitat. Therefore, no further consultation is required under Section 7 of the Endangered Species Act. The NRC staff has also determined that the proposed action is not the type of activity that has the potential to cause effects on historic properties. Therefore, no further consultation is required under Section 106 of the National Historic Preservation Act.

III. Finding of No Significant Impact

The NRC staff has prepared this EA in support of the proposed action. On the basis of this EA, the NRC finds that there are no significant environmental impacts from the proposed action, and that preparation of an environmental impact statement is not warranted. Accordingly, the NRC has determined that a Finding of No Significant Impact is appropriate.

IV. Further Information

Documents related to this action, including the application for license amendment and supporting documentation, are available electronically at the NRC's Electronic Reading Room at http://www.nrc.gov/reading-rm/adams.html. From this site, you can access the NRC's Agencywide Document Access and Management System (ADAMS), which provides text and image files of NRC's public documents. The documents related to this action are listed below, along with their ADAMS accession numbers.

NUREG-1757, (Consolidated NMSS Decommissioning Guidance;''

1. Title 10 Code of Federal Regulations, Part 20, Subpart E, “Radiological Criteria for License Termination;”

2. Title 10, Code of Federal Regulations, Part 51, “Environmental Protection Regulations

3. For Domestic Licensing and Related Regulatory Functions;”

4. NUREG-1496, “Generic Environmental Impact Statement in Support of Rulemaking on Radiological Criteria for License Termination of NRC-Licensed Nuclear Facilities,”

5. NUREG-1720, “Re-evaluation of the Indoor Resuspension Factor for the Screening Analysis of the Building Occupancy Scenario for NRC's License Termination Rule—Draft Report,

6. NRC License No. 45-23645-01NA inspection and licensing records,

7. Department of the Navy, Termination of Naval Radioactive Materials Permit No. 04-68937-W1NP Issued to Naval Air Warfare Center Weapons Division, China Lake, dated October 27, 2006 (ML063190505),

8. Department of the Navy, Request Assistance in Preparing an Environmental Assessment to Release Building 5, Michelson Laboratory, Room 1613, Naval Air Warfare Center Weapons Division, China Lake to Unrestricted Use, dated February 8, 2008 (ML080650464), and

9. New World Technology, Final Status Survey Report, Building 5, Michelson Laboratory, Room 1613, Naval Air Warfare Center Weapons Division, China Lake, CA, dated November 16, 2007 (ML080650470, ML080650474, and ML080650481).

If you do not have access to ADAMS, or if there are problems in accessing the documents located in ADAMS, contact the NRC Public Document Room (PDR) Reference staff at 1-800-397-4209, 301-415-4737, or by e-mail to pdr@nrc.gov. These documents may also be viewed electronically on the public computers located at the NRC's PDR, O 1 F21, One White Flint North, 11555 Rockville Pike, Rockville, MD 20852. The PDR reproduction contractor will copy documents for a fee.

Dated at King of Prussia, Pennsylvania this 1st day of July 2008.
For the Nuclear Regulatory Commission.
Marie Miller,
Chief, Materials Security and Industrial Branch, Division of Nuclear Materials Safety, Region I.

[FR Doc. E8-15793 Filed 7-10-08; 8:45 am]

BILLING CODE 7590-01-P